DEPARTMENT OF ENERGY

Federal Energy Regulatory Commission

Notice of Intent To File an Application for a New License

August 14, 2002.

a. Type of Filing: Notice of Intent to File an Application for a New License.

b. Project No.: P-2216.

c. Date Filed: August 2, 2002.

d. Submitted By: New York Power Authority.

e. Name of Project: Robert Moses-Niagara Hydroelectric Project

f. Location: On the Niagara River, in the Town of Lewiston and the Town of Niagara, Niagara County, New York. The project does not occupy any Federal lands.

g. Filed Pursuant To: Section 15 of the Federal Power Act, 18 CFR 16.6 of the Commission's regulations.

h. FERC's Contact: Patti Leppert at (202) 502-6034; e-mail at patricia.leppert@ferc.gov.

i. Licensee's Contact: Mr. Keith Silliman, Director, Niagara Relicensing, New York Power Authority, 30 South Pearl Street, Albany, New York 12207-3425, (518) 433-6735.

j. Effective Date of Current License: September 1, 1957.

k. Expiration Date of Current License: August 31, 2007.

l. The existing project has a conventional development and a pumped storage development for a total current installed capacity of 2,538 megawatts (based on currently completed upgrades). Existing project facilities include: (a) Two 700-foot-long intake structures located on the upper Niagara River about 2.6 miles upstream from the American Falls; (b) two 4.3-mile-long concrete underground water supply conduits, each measuring 46 feet wide by 66.5 feet high; (c) a forebay; (d) the Lewiston Pump-Generating Plant, measuring 975 feet long by 240 feet wide by 160 feet high; (e) the 1,900-acre Lewiston Reservoir at a maximum water surface elevation of 658 feet United

States Lake Survey Datum; (f) the Robert Moses Niagara power plant, including an intake structure, measuring 1,100 feet long by 190 feet wide by 100 feet high; (g) a switch yard; and (h) appurtenant facilities.

m. Pursuant to 18 CFR 16.8, 16.9, and 16.10 each application for a new license and any competing license applications must be filed with the Commission at least 24 months prior to the expiration of the existing license. All applications for license for this project must be filed by August 31, 2005.

Linwood A. Watson, Jr.,
Deputy Secretary.

[FR Doc. 02-21152 Filed 8-19-02; 8:45 am]

BILLING CODE 6717-01-P